DEPARTMENT OF COMMERCE

International Trade Administration

[A-580-878, A-580-881, C-580-879, C-580-882]

Certain Cold-Rolled Steel Flat Products and Certain Corrosion-Resistant Steel Products From the Republic of Korea: Final Results of Antidumping and Countervailing Duty Changed Circumstances Reviews

AGENCY: Enforcement and Compliance, International Trade Administration, Department of Commerce.

SUMMARY: The Department of Commerce (Commerce) continues to find that that KG Dongbu Steel Co., Ltd. (KG Dongbu Steel) is the successor-in-interest to Dongbu Steel Co., Ltd. (Dongbu Steel) and Dongbu Incheon Steel Co., Ltd. (Dongbu Incheon) for purposes of determining antidumping duty (AD) cash deposits and liabilities pursuant to the AD orders on certain cold-rolled steel flat products (cold-rolled steel) and certain corrosion-resistant steel products (CORE) from the Republic of Korea (Korea). Additionally, Commerce continues to find KG Dongbu Steel is not the successor-in-interest to Dongbu Steel and Dongbu Incheon for purposes of countervailing duty (CVD) cash deposits and liabilities pursuant to the CVD orders on cold-rolled steel and CORE, because there was a significant change in ownership and operations that could have affected the nature and extent of the countervailable subsidies attributable to KG Dongbu Steel.

DATES: Applicable February 23, 2021.

FOR FURTHER INFORMATION CONTACT: Joshua A. DeMoss, AD/CVD Operations, Office VI, Enforcement and Compliance, International Trade Administration, U.S. Department of Commerce, 1401 Constitution Avenue NW, Washington, DC 20230; telephone: (202) 482-3362.

SUPPLEMENTARY INFORMATION:

Background

On January 5, 2021, Commerce published the Preliminary Results of the changed circumstances reviews (CCRs) of the AD and CVD orders on cold-rolled steel and CORE from Korea.¹ In the Preliminary Results, interested parties were provided an opportunity to comment and request a public hearing regarding our preliminary findings. We received no comments from interested parties, nor was a public hearing requested.

¹ See Certain Cold-Rolled Steel Flat Products and Certain Corrosion-Resistant Steel Products from the Republic of Korea: Final Results of Antidumping Duty and Countervailing Duty Changed Circumstances Reviews, 86 FR 287 (January 5, 2021) (Preliminary Results).

Scope of the Orders

The products covered by these CCRs are cold-rolled steel and CORE from Korea. For full descriptions of the scope of the orders, see the Preliminary Results and accompanying Preliminary Decision Memorandum.

Final Results of the Changed Circumstances Reviews

For the reasons stated in the Preliminary Results, and because we received no comments from interested parties, Commerce continues to find that KG Dongbu Steel is the successor-in-interest to Dongbu Steel and Dongbu Incheon for AD purposes. As a result of this determination, we find it appropriate to apply to KG Dongbu Steel AD cash deposits requirements and liabilities at the rates currently in effect for Dongbu Steel/Dongbu Incheon. For CVD purposes, we continue to find that changes in ownership and management were significant and, thus, that it is not appropriate to apply the CVD cash deposit requirements and liabilities currently in effect for Dongbu Steel/Dongbu Incheon to KG Dongbu Steel.

Commerce will instruct U.S. Customs and Border Protection to suspend liquidation of all shipments of subject merchandise produced or exported by KG Dongbu Steel and entered, or withdrawn from warehouse, for consumption on or after the publication date of this notice in the Federal Register at the current antidumping duty cash-deposit rate on cold-rolled steel and CORE in effect for Dongbu Steel/Dongbu Incheon. This cash deposit requirement shall remain in effect until further notice.

Notification to Interested Parties

This notice is published in accordance with sections 751(b)(1) and 777(i)(1) of the Act and 19 CFR 351.216(b), 351.221(b) and 351.221(c)(3).

Dated: February 17, 2021.
Christian Marsh,
Acting Assistant Secretary for Enforcement and Compliance.

[FR Doc. 2021-03619 Filed 2-22-21; 8:45 am]

BILLING CODE 3510-DS-P